DEPARTMENT OF COMMERCE

International Trade Administration

[A-427-602, A-428-602, A-475-601, A-588-704]

Brass Sheet and Strip from France, Italy, Germany, and Japan: Continuation of Antidumping Duty Orders

AGENCY: Import Administration, International Trade Administration, Department of Commerce.

SUMMARY: As a result of the determinations by the Department of Commerce (“the Department”) and the International Trade Commission (“ITC”) that revocation of the antidumping duty orders on brass sheet and strip from France, Italy, Germany, and Japan would likely lead to continuation or recurrence of dumping, and material injury to an industry in the United States, the Department is publishing notice of continuation of these antidumping duty orders.

EFFECTIVE DATE: April 3, 2006.

FOR FURTHER INFORMATION CONTACT: Audrey Twyman or Brandon Farlander, AD/CVD Operations, Office 1, Import Administration, International Trade Administration, U.S. Department of Commerce, 14th Street & Constitution Avenue, NW, Washington, DC 20230; telephone: (202) 482-3534 and (202) 482-0182, respectively.

SUPPLEMENTARY INFORMATION:

Background

On April 1, 2005, the Department initiated and on March 31, 2005, the ITC instituted sunset reviews of the antidumping duty orders on brass sheet and strip from France, Italy, Germany, and Japan pursuant to section 751(c) of the Tariff Act of 1930, as amended (“the Act”).¹

¹ See Initiation of Five-Year (“Sunset”) Reviews, 70 FR 16800 (April 1, 2005); and Brass Sheet and Strip from Brazil, Canada, France, Germany, Italy, and Japan, Investigations Nos. 701-TA-269 and 270, and 731-TA-311-314, 317, and 379 (Second Review), 70 FR 16519 (March 31, 2005).

As a result of its review, the Department found that revocation of the antidumping duty orders would likely lead to continuation or recurrence of dumping, and notified the ITC of the magnitude of the margins likely to prevail were the orders to be revoked.² On March 6, 2006, the ITC determined pursuant to section 751(c) of the Act, that revocation of the antidumping duty orders on brass sheet and strip from France, Italy, Germany, and Japan would likely lead to continuation or recurrence of material injury to an industry in the United States within a reasonably foreseeable time.³

² See Brass Sheet and Strip from Brazil, Canada, France, Italy and Japan; Final Results of the Expedited Sunset Reviews of the Antidumping Duty Orders, 70 FR 45650 (August 8, 2005); and Brass Sheet and Strip from Germany: Final Results of the Full Sunset Review of the Antidumping Duty Order, 71 FR 4348 (January 26, 2006).

³ See Brass Sheet and Strip from Brazil, Canada, France, Germany, Italy, and Japan, Investigation Nos. 701-TA-269 and 731, and TA-311-314, 317, and 379 (Second Review), 71 FR 14719 (March 23, 2006).

Scope of the Orders

The product covered by these orders is brass sheet and strip (“BSS”), other than leaded and tinned BSS. The chemical composition of the covered product is currently defined in the Copper Development Association (“C.D.A.”) 200 Series or the Unified Numbering System (“U.N.S.”) C2000. These orders do not cover products the chemical compositions of which are defined by other C.D.A. or U.N.S. series. In physical dimensions, the product covered by these orders has a solid rectangular cross section over 0.006 inches (0.15 millimeters) through 0.188 inches (4.8 millimeters) in finished thickness or gauge, regardless of width. Coiled, wound-on-reels (traverse wound), and cut-to-length products are included.

The merchandise is currently classified under Harmonized Tariff Schedule of the United States (“HTSUS”) item numbers 7409.21.00 and 7409.29.00. Although the HTSUS item numbers are provided for convenience and customs purposes, the written description of the scope of these orders remains dispositive.

Determination

As a result of the determinations by the Department and the ITC that revocation of these antidumping duty orders would likely lead to continuation or recurrence of dumping, and material injury to an industry in the United States, pursuant to section 751(d)(2) of the Act, the Department hereby orders the continuation of the antidumping duty orders on brass sheet and strip from France, Italy, Germany, and Japan.

U.S. Customs and Border Protection will continue to collect antidumping duty cash deposits at the rates in effect at the time of entry for all imports of subject merchandise.

The effective date of continuation of these orders will be the date of publication in the Federal Register of this Notice of Continuation. Pursuant to section 751(c)(2) and 751(c)(6)(A) of the Act, the Department intends to initiate the next five-year reviews of these orders not later than February 2011.

These five-year (sunset) reviews and this notice are in accordance with section 751(c) of the Act.

Dated: March 27, 2006.
David M. Spooner,
Assistant Secretary for Import Administration.

[FR Doc. E6-4783 Filed 3-31-06; 8:45 am]

BILLING CODE 3510-DS-S